DEPARTMENT OF AGRICULTURE

Forest Service

Trapper Bunkhouse Land Stewardship Project, Darby Ranger District, Bitterroot National Forest in Ravalli County, MT

AGENCY: Forest Service, USDA.

ACTION: Notice of intent to prepare an environmental impact statement.

SUMMARY: The USDA, Forest Service, Bitterroot National Forest, will prepare an Environmental Impact Statement (EIS) to document the analysis and disclose the environmental impacts of the proposed Trapper Land Stewardship Project. The project area is located in Ravalli County, west of Darby, Montana. The project analysis area encompasses approximately 34,300 acres between the Trapper Creek and Bunkhouse Creek drainages of the Bitterroot River watershed. The proposed project would manage vegetation to address urban interface needs, insect and disease infestations, dead and dying vegetation; travel systems will also be evaluated to reduce sedimentation, restore aquatic passage and provide managed recreation opportunities including ATV and motorcycle travel loops. Site-specific Bitterroot Forest Plan amendments are proposed for: snag standards, Forest Wide Elk Habitat Effectiveness (EHE) standards, and-Forest-wide thermal cover standards. Approximately 6000 acres between Trapper and Bunkhouse drainages of the Bitterroot River watershed are proposed for vegetation treatments. We will also be working with scientists from the Rocky Mountain Research Station and the Leopold Wilderness Institute to provide opportunities to evaluate our ability to influence fire spread with vegetation management and the effects of our management on the ecosystem.

Public Involvement: The public is invited to comment on the Proposed Action or meet with Chuck Oliver at any point in time during the 30-day comment period beginning on the date of the publication of the Notice of Intent in the Federal Register. Contact Chuck Oliver at (406) 821-3913 or e-mail coliver01@fs.fed.us to schedule a meeting. To get on the mailing list contact Elizabeth Ballard (406) 777-5461, or email eballard@fs.fed.us.

DATES: Initial comments concerning the proposed action and the scope of analysis should be received in writing, no later than 30 days from the publication of this notice of intent.

ADDRESSES: Submit written, oral, or e-mail comments by: (1) Mail—Trapper Bunkhouse BEMRP Project; Chuck Oliver, District Ranger; Darby Ranger Station; 712 N. Main; Darby, Montana 59829 (2) phone—(406) 821-3913; (3) e-mail—comments-northern-bitterroot-darby@fs.fed.us.

FOR FURTHER INFORMATION CONTACT: Elizabeth Ballard, Acting North Zone Interdisciplinary Team Leader, Stevensville Ranger District, Bitterroot National Forest, 88 Main St. Stevensville, MT, 59870, phone (406) 777-5461, or e-mail eballard@fs.fed.us.

Responsible Official: David T. Bull, Forest Supervisor, Bitterroot National Forest, Hamilton, MT 59807.

SUPPLEMENTARY INFORMATION:

Purpose and Need for Action

The Trapper Bunkhouse Project is proposed to respond to the goals and objectives of the Bitterroot Community Wildfire Protection Plan and the Bitterroot National Forest Land and Resource Management Plan.

The purpose and need objectives of the proposed Trapper Bunkhouse project are to Reduce the probability for uncharacteristically large, high-intensity wildlife fires within historic low intensity, frequently fire regime areas on the landscape and especially in the urban interface.

Provide economic value to the community and provide funding opportunities for other projects related to watershed, soil restoration and fuel reduction by capturing economic value of beetle killed and infested trees as well as green tree thinning.

Provide motorized recreation opportunities (firewood, ATV's and motorcycle, driving) while protecting resources such as soils, sensitive species, and water resources. Improve watershed and aquatic conditions.

In addition, this project provide an opportunity to conduct research to evaluate our ability to influence fire spread with vegetation management and the effects of our management on the ecosystem.

Proposed Action

The proposed action is designed to reduce potential impacts and to accomplish the project objectives. The types of vegetation management treatments that may be implemented on the landscape to meet the objectives include, but are not limited to: Salvage of dead and dying trees; green tree removals such as commercial and non-commercial thinning (including removal of insect and disease infested trees); slashing, hand piling, prescribed burning, herbicide application for noxious weeds, and sporax application of Ponderosa Pine stumps to prevent spread of annosus root diseases. The total proposed vegetation treatment acres is approximately 6000.

Approximately 250 acres of proposed research treatment are planned to be included within these treatment areas. Research treatment options include: Mechanical or hand thin ladder fuel trees and large competing trees to different levels, or prescribed burn only. Thinning treatments include the following associated treatments: (a) Fuel reduction by mechanical removal, pile and burn, or prescribed burn; (b) skid trails treated with mulch or slash mats or left untreated; (c) treating pile burn microsite with mulch and/or unburned soil or left untreated.

The types of access management treatments that may be implemented on the landscape to meet the objectives include, but are not limited to: Road reconstruction for timber harvest purposes, closing or obliterating un-needed roads or routes, construction of trails, changing access through restrictions or road closures, culvert replacement or removal, and development of parking areas. Approximately 1-2 miles of new trail construction may be necessary to connect existing routes to one another. Approximately 2-3 miles of new trail construction may be necessary on existing road prisms. Approximately 2-3 miles of unauthorized routes would be rehabilitated and closed. Approximately 4-33 road crossings would be modified. Parking areas in 2 to 3 areas would be established or modified.

Possible Alternatives

Preliminary alternatives which have been identified include the proposed action and the no action alternatives.

Responsible Official

David T. Bull, Forest Supervisor, Bitterroot National Forest, 1801 N. First, Hamilton, MT 59840.

Nature of Decision To Be Made

The Responsible Official will determine whether or not to proceed with the proposed project activities.

Scoping Process

Comments will be accepted during the 30-day scoping period as described in this notice of intent. To assist in commenting, a scoping letter providing more detailed information on the project proposal has been prepared and is available to interested parties. Contact Chuck Oliver, Darby District Ranger at the address listed in this notice of intent if you would like to receive a copy. An open house in Darby, Montana is planned on October 12, 2005 in Darby, Montana. This will be an opportunity for you to interact with team members to clarify the proposed project.

Preliminary Issues

Impacts to the viewshed from the town of Darby.

Comment Requested

This notice of intent initiates the scoping process which guides the development of the environmental impact statement.

Early Notice of Importance of Public Participation in Subsequent Environmental Review

The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day-comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Additional public comment will be accepted after publication of the DEIS anticipated early in 2006. The Environmental Protection Agency will publish the Notice of Availability of the Draft Environmental Impact Statement in the Federal Register. The Forest will also publish a legal notice of availability in the Ravalli Republic, Hamilton, Montana. The comment period on the Draft EIS will begin the day after the legal notice is published. The Final EIS and Decision are expected late in 2006.

Dated: September 15, 2005.
David T. Bull,
Forest Supervisor.

[FR Doc. 05-18792 Filed 9-20-05; 8:45 am]

BILLING CODE 3410-11-M